DEPARTMENT OF LABOR

Occupational Safety and Health Administration

29 CFR Part 1910

[Docket No. OSHA-2013-0010]

RIN 1218-AC80

Record Requirements in the Mechanical Power Presses Standard

AGENCY: Occupational Safety and Health Administration (OSHA), Labor.

ACTION: Proposed rule; withdrawal.

SUMMARY: With this notice, OSHA is withdrawing the proposed rule that accompanied its direct final rule revising the record requirements contained in the Mechanical Power Presses Standard.

DATES: Effective April 18, 2014, OSHA is withdrawing the proposed rule published November 20, 2013 (78 FR 69606).

FOR FURTHER INFORMATION CONTACT: General information and press inquiries: Contact Frank Meilinger, Director, OSHA Office of Communications, Room N-3647, U.S. Department of Labor, 200 Constitution Avenue NW., Washington, DC 20210; telephone: (202) 693-1999; email: meilinger.francis2@dol.gov.

Technical information: Contact Todd Owen, Directorate of Standards and Guidance, Room N-3609, OSHA, U.S. Department of Labor, 200 Constitution Avenue NW., Washington, DC 20210; telephone: (202) 693-1941; fax: (202) 693-1663; email: owen.todd@dol.gov.

SUPPLEMENTARY INFORMATION: Copies of this Federal Register notice: Electronic copies of this Federal Register notice are available at http://www.regulations.gov. This Federal Register notice, as well as news releases and other relevant information, also is available at OSHA's Web page at http://www.osha.gov.

Withdrawal of the proposal: On November 20, 2013, OSHA published a companion proposed rule (NPRM) along with the direct final rule (DFR) (see 78 FR 69543) revising the record requirements contained in the Mechanical Power Presses Standard. In the DFR, OSHA stated that it would withdraw the companion NPRM and confirm the effective date of the final rule if it received no significant adverse comments to the DFR by the close of the comment period, December 20, 2013. OSHA received two comments on the DFR by that date, neither of which were significant adverse comments (see ID: OSHA-2013-0010-0003 and OSHA-2013-0010-0004 in the docket for this rulemaking). Accordingly, OSHA is withdrawing the proposed rule. In addition, OSHA is publishing a separate Federal Register notice confirming the effective date of the final rule.

List of Subjects in 29 CFR Part 1910

Mechanical power presses, Occupational safety and health, Safety.

Authority and Signature

David Michaels, Ph.D., MPH, Assistant Secretary of Labor for Occupational Safety and Health, U.S. Department of Labor, 200 Constitution Avenue NW., Washington, DC 20210, authorized the preparation of this document. OSHA is issuing this document pursuant to 29 U.S.C. 653, 655, and 657, 5 U.S.C. 553, Secretary of Labor's Order 1-2012 (77 FR 3912), and 29 CFR part 1911.

Signed at Washington, DC, on April 14, 2014.
David Michaels,
Assistant Secretary of Labor for Occupational Safety and Health.

[FR Doc. 2014-08863 Filed 4-17-14; 8:45 am]

BILLING CODE 4510-26-P